NUCLEAR REGULATORY COMMISSION

[NRC-2019-0073]

Public Meetings To Discuss Best Practices for Establishment and Operation of Local Community Advisory Boards in Response to a Portion of the Nuclear Energy Innovation and Modernization Act

AGENCY: Nuclear Regulatory Commission.

ACTION: Public meetings.

SUMMARY: The U.S. Nuclear Regulatory Commission (NRC) is undertaking activities to develop a report identifying best practices for establishment and operation of local community advisory boards associated with decommissioning activities, including lessons learned from existing boards, as required by the Nuclear Energy Innovation and Modernization Act (NEIMA). As part of developing the report, the NRC is hosting 11 public meetings and at least 1 webinar to consult with host States, communities within the emergency planning zone of an applicable nuclear power reactor, and existing local community advisory boards. The results of these meetings, along with any other data received as a result of the NRC's information collection activities associated with NEIMA, will be captured in a best practices report that will be submitted to Congress.

DATES: Public meetings to discuss best practices and lessons learned associated with community advisory boards at decommissioning nuclear power reactors will take place from approximately August through October of 2019.

FOR FURTHER INFORMATION CONTACT: Marlayna Vaaler Doell or Kim Conway, Office of Nuclear Material Safety and Safeguards, U.S. Nuclear Regulatory Commission, Washington, DC 20555-0001; telephone: 301-415-3178 or 301-415-1335; email: NEIMA108.Resource@nrc.gov.

SUPPLEMENTARY INFORMATION:

I. Introduction

The NRC is coordinating activities in accordance with Section 108 of NEIMA to collect information on the use of, and lessons learned from, local community advisory boards during decommissioning activities and issue a best practices report.

The contents of this report, scheduled to be issued to Congress no later than July 14, 2020, will include a description of the type of topics that might be brought before a community advisory board; how the board's input could inform the decision-making process of stakeholders for various decommissioning activities; how the board could interact with the NRC and other Federal regulatory bodies to promote dialogue between the licensee and affected stakeholders; and how the board could offer opportunities for public engagement throughout all phases of the decommissioning process. The report will also include a discussion of the composition of existing community advisory boards and best practices identified during the establishment and operation of such boards, including logistical considerations, frequency of meetings, and the selection of board members.

In developing a best practices report, the NRC is consulting with host States, communities within the emergency planning zone of an applicable nuclear power reactor, and existing local community advisory boards. This consultation will include the distribution of a questionnaire, which is currently being developed, to solicit information on specific topics that Section 108 of NEIMA requires be included in the report. The NRC will also conduct twelve Category 3 public meetings, including at least one nationwide webinar.

The public meetings will be held in locations that ensure geographic diversity across the United States, with priority given to States that (i) have a nuclear power reactor currently undergoing the decommissioning process; and (ii) requested a public meeting under the provisions of NEIMA in accordance with the Federal Register (FR) notice published on March 18, 2019 (84 FR 9841). At NRC Category 3 public meetings, the public is invited to participate by providing comments and asking questions.

II. Category 3 Public Meeting Locations and Nationwide Webinar

Consistent with the consultation requirements in NEIMA Section 108, the NRC received requests for and identified the areas surrounding the following nuclear power reactors as locations to host public meetings to discuss best practices and lessons learned for establishment and operation of local community advisory boards: (1) Crystal River 3 Nuclear Power Plant in Crystal River, Florida; (2) Diablo Canyon Power Plant in San Luis Obispo, California; (3) Humboldt Bay Nuclear Power Plant in Eureka, California; (4) Indian Point Energy Center in Buchanan, New York; (5) Kewaunee Power Station in Kewaunee, Wisconsin; (6) Oyster Creek Nuclear Generating Station in Forked River, New Jersey; (7) Palisades Nuclear Generating Station in Covert, Michigan; (8) Pilgrim Nuclear Power Station in Plymouth, Massachusetts; (9) San Onofre Nuclear Generating Station in San Clemente, California; (10) Vermont Yankee Nuclear Power Plant in Vernon, Vermont; and (11) Zion Nuclear Power Station in Zion, Illinois.

The public meetings to discuss best practices and lessons learned associated with community advisory boards at decommissioning nuclear power reactors will take place from approximately August through October of 2019. Specific details regarding the dates, times, locations, and other logistical information for each of the meetings can be found, as they become available, on the NRC's NEIMA Section 108 public website at: https://www.nrc.gov/waste/decommissioning/neima-section-108.html. The meeting details for each Category 3 public meeting will also be published in the NRC Public Meeting Notice System a minimum of ten days before the meeting takes place.

The NRC staff is also planning to host at least one nationwide webinar to discuss best practices and lessons learned for establishment and operation of local community advisory boards. The first of these webinars will take place in August. For information about attending the webinar, or any of the other planned public meetings, please see the public NEIMA Section 108 website or contact the individuals listed in the FOR FURTHER INFORMATION CONTACT section of this document.

Dated at Rockville, Maryland this 1st day of July, 2019.
For the Nuclear Regulatory Commission.
Bruce A. Watson,
Chief, Reactor Decommissioning Branch, Division of Decommissioning, Uranium Recovery, and Waste Programs, Office of Nuclear Material Safety and Safeguards.

[FR Doc. 2019-14363 Filed 7-3-19; 8:45 am]

BILLING CODE 7590-01-P